DEPARTMENT OF ENERGY

Commission To Review the Effectiveness of the National Energy Laboratories

AGENCY: Department of Energy.

ACTION: Notice of Intent To Establish the Commission To Review the Effectiveness of the National Energy Laboratories.

SUMMARY: Following consultation with the Committee Management Secretariat, General Services Administration, notice is hereby given that the Commission To Review the Effectiveness of the National Energy Laboratories (Commission) will be established. The Commission will provide advice and recommendations to the Secretary of Energy.

Additionally, the establishment of the Commission has been determined to be essential to the conduct of the Department's business and to be in the public interest in connection with the performance of duties imposed upon the Department of Energy by law and agreement. The Commission will operate in accordance with the provisions of the Federal Advisory Committee Act and the rules and regulations in implementation of that Act.

SUPPLEMENTARY INFORMATION: Pursuant to Section 14(a)(2)(A) of the Federal Advisory Committee Act (Pub. L. 92-463), section 319 of the Consolidated Appropriations Act of 2014, Public Law 113-76, and in accordance with title 41, Code of Federal Regulations, section 102-3.65, and following consultation with the Committee Management Secretariat, General Services Administration, notice is hereby given that the Commission to Review the Effectiveness of the National Energy Laboratories will be established.

The activities of the Commission will include, but are not limited to:

Two phases are planned for the Commission. In Phase 1, the objective of the Commission is to address whether the Department of Energy's (DOE) national laboratories are properly aligned with the Department's strategic priorities; have clear, well understood, and properly balanced missions that are not unnecessarily redundant and duplicative; have unique capabilities that have sufficiently evolved to meet current and future energy and national security challenges; are appropriately sized to meet the Department's energy and national security missions; and are appropriately supporting other Federal agencies and the extent to which it benefits DOE missions.

For Phase 2, the Commission shall also determine whether there are opportunities to more effectively and efficiently use the capabilities of the national laboratories, including consolidation and realignment, reducing overhead costs, reevaluating governance models using industrial and academic bench marks for comparison, and assessing the impact of DOE's oversight and management approach. In its evaluation, the Commission should also consider the cost and effectiveness of using other research, development, and technology centers and universities as an alternative to meeting DOE's energy and national security goals.

The Commission shall analyze the effectiveness of the use of laboratory directed research and development (LDRD) to meet the Department of Energy's science, energy, and national security goals. The Commission shall further evaluate the effectiveness of the Department's oversight approach to ensure LDRD-funded projects are compliant with statutory requirements and congressional direction, including requirements that LDRD projects be distinct from projects directly funded by appropriations and that LDRD projects derived from the Department's national security programs support the national security mission of the Department of Energy. Finally, the Commission shall quantify the extent to which LDRD funding supports recruiting and retention of qualified staff.

The Commission will submit a report containing the Commission's findings and conclusions to the Secretary of Energy, the Committees on Appropriations of the House of Representatives, and the Senate.

The Commission terminates following submission of its final report to the Secretary of Energy and the Committees on Appropriations of the House of Representatives and the Senate, unless, prior to that time, the charter is renewed in accordance with Section 14 of the FACA.

The Commission shall be composed of approximately nine members, appointed by the Secretary of Energy to serve as special Government employees. The members shall be eminent in a field of science or engineering; and/or have expertise in managing scientific facilities; and/or have expertise in cost and/or program analysis; and have an established record of distinguished service. The membership of the Commission shall be representative of the broad range of scientific, engineering, financial, and managerial disciplines related to activities under this title. Subcommittees may be utilized.

FOR FURTHER INFORMATION CONTACT: Karen Gibson, (202) 586-3787.

Issued in Washington, DC, on May 28, 2014.
Amy Bodette,
Committee Management Officer.

[FR Doc. 2014-12801 Filed 6-2-14; 8:45 am]

BILLING CODE 6450-01-P